DEPARTMENT OF HOMELAND SECURITY

Federal Emergency Management Agency

44 CFR Part 67

Final Flood Elevation Determinations

AGENCY: Federal Emergency Management Agency (FEMA), Department of Homeland Security, Mitigation Division.

ACTION: Final rule

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, 500 C Street, SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground Modified | Communities affected
Sedgwick County, Kansas, and Incorporated Areas
[Docket No.: FEMA-P-7911]
Armour Branch Gypsum Creek | At confluence with Gypsum Creek | +1,322 | City of Eastborough, City of Wichita.
| Approximately 1,120 feet upstream of Rockwood Road | +1,368
Big Slough South | Approximately 500 feet upstream of confluence with Arkansas River | +1,258 | City of Wichita, Sedgwick County (Unincorporated Areas).
| Approximately 2,830 feet upstream of South Meridian Avenue | +1,286 |
Calfskin Creek | At confluence with Cowskin Creek | +1,316 | City of Wichita, Sedgwick County (Unincorporated Areas).
| Approximately 5,070 feet upstream of South 119th Street West | +1,324
Cowskin Creek | At confluence with Wichita Valley Center Floodway | +1,279 | City of Colwich, City of Maize, City of Wichita, Sedgwick County (Unincorporated Areas).
| Approximately 4,000 feet downstream of State Highway 296 | +1,368
Dry Creek of Gypsum Creek | At confluence with Gypsum Creek | +1,290 | City of Wichita.
| Approximately 150 feet upstream of the confluence with Gypsum Creek | +1,290
Dry Creek North of Cowskin Creek | At confluence with Cowskin Creek | +1,347 | Sedgwick County (Unincorporated Areas).
| At West 167th Street North | +1,386
Dry Creek South of Cowskin Creek | At confluence with Cowskin Creek | +1,292 | Sedgwick County (Unincorporated Areas).
| At South Maize Road | +1,317
Dry Creek of Spring Creek | Just downstream of East Madison Avenue | +1,266 | City of Derby, Sedgwick County (Unincorporated Areas).
| Approximately 50 feet upstream of East 55th Street South | +1,331
East Branch Gypsum Creek | At confluence with Gypsum Creek | +1,334 | City of Wichita.
| Approximately 100 feet upstream of East Central Parkway | +1,343
East Branch Gypsum Creek (Splitflow) | At convergence with East Branch Gypsum Creek | +1,340 | City of Wichita.
| At divergence from East Branch Gypsum Creek | +1,342
East Fork Chisholm Creek | At confluence with Wichita Drainage Canal | +1,306 | City of Wichita.
| At Interstate Highway 135 Access Road | +1,306
Fabrique Branch Gypsum Creek | At confluence with Gypsum Creek | +1,317 | City of Wichita.
| Approximately 150 feet upstream of Pedestrian Bridge/East Zimmerly Avenue | +1,325
Frisco Ditch | Approximately 140 feet upstream of Interstate Highway 135 | +1,300 | City of Wichita.
| Approximately 600 feet upstream of Northeast Cemetery Road | +1,366
Gypsum Creek | At confluence with Wichita Drainage Canal | +1,278 | City of Wichita, Sedgwick County (Unincorporated Areas).
| At confluence of Middle and West Branches of Gypsum Creek | +1,338
Little Arkansas River (Upper Reach) | Approximately 2,400 feet downstream of Wichita Valley Center Floodway Control Structure | +1,340 | Sedgwick County (Unincorporated Areas).
| At County Boundary | +1,372
Middle Branch Gypsum Creek | At confluence with Gypsum Creek | +1,339 | City of Wichita.
| Approximately 2,400 feet upstream of East Tipperary Street | +1,352
Middle Fork Calfskin Creek | Approximately 70 feet upstream of the confluence with North Fork Calfskin Creek | +1,325 | City of Wichita.
| Approximately 3,375 feet upstream of confluence with North Fork Calfskin Creek | +1,340
North Fork Calfskin Creek | At confluence with Calfskin Creek | +1,322 | City of Wichita, Sedgwick County (Unincorporated Areas).
| Approximately 4,350 feet upstream of North 135th Street West | +1,370
Rock Road South Tributary Gypsum Creek | Approximately 650 feet upstream of South Rock Road | +1,326 | City of Wichita.
| Approximately 3,730 feet upstream of East Harry Street | +1,347
Spring Creek | Approximately 1,700 feet upstream of the confluence with Arkansas River | +1,237 | City of Derby, Sedgwick County (Unincorporated Areas).
| Approximately 50 feet upstream of East 63rd Street South/South Greenwich Road | +1,309
Tributary to North Fork Calfskin Creek | At confluence with North Fork Calfskin Creek | +1,346 | City of Wichita, Sedgwick County (Unincorporated Areas).
| Approximately 3,930 feet upstream of North 151st Street West | +1,381
West Branch Gypsum Creek | At confluence with Gypsum Creek | +1,338 | City of Wichita.
| Approximately 175 feet upstream of East Farmview Lane | +1,382
*National Geodetic Vertical Datum:
#Depth in feet above ground
+North American Vertical Datum
ADDRESSES:
City of Colwich:
Maps are available for inspection at the Community Map Repository, City Hall, 310 South Second Street, Colwich, Kansas.
City of Derby:
Maps are available for inspection at the Community Map Repository, City Hall, 611 Mulberry Street, Derby, Kansas.
City of Eastborough:
Maps are available for inspection at the Community Map Repository, City Hall, 1 Douglas Street, Wichita, Kansas.
City of Maize:
Maps are available for inspection at the Community Map Repository, City Hall, 123 Khedive, Maize, Kansas.
Sedgwick County, Kansas (Unincorporated Areas):
Maps are available for inspection at the Community Map Repository, Office of Stormwater Management, 455 North Main Street, 8th Floor, Wichita, Kansas.
City of Wichita:
Maps are available for inspection at the Community Map Repository, Office of Stormwater Management, 455 North Main Street, 8th Floor, Wichita, Kansas.

(Catalog of Federal Domestic Assistance No. 83.100, “Flood Insurance.”)

Dated: October 4, 2006.
David I. Maurstad,
Director, Mitigation Division, Federal Emergency Management Agency, Department of Homeland Security.

[FR Doc. E6-17258 Filed 10-16-06; 8:45 am]

BILLING CODE 9110-12-P